SMALL BUSINESS ADMINISTRATION

National Advisory Council Public Meeting

The Small Business Administration (SBA) will be hosting a meeting of the National Advisory Councils (NAC). The meeting will be held from Monday, May 17th through Wednesday, May 19, 2004, at the Disney Yacht & Beach Club Resort located at 1700 Epcot Resort Boulevard, Lake Buena Vista, FL 32830.

Anyone wishing to attend and make an oral presentation to the Board must contact Kimberly Mace, no later than Wednesday, May 12, 2004, via e-mail or fax. Kimberly Mace, U.S. Small Business Administration, 409 3rd Street SW., Washington, DC 20416 (202) 401-8525 phone or (202) 481-2974 fax or e-mail kimberly.mace@sba.gov.

Balbina A. Caldwell,
Director of Advisory Councils.

[FR Doc. E4-1069 Filed 5-10-04; 8:45 am]

BILLING CODE 8025-01-P